DEPARTMENT OF COMMERCE

National Oceanic and Atmospheric Administration

[I.D. 042202E]

Western Pacific Fishery Management Council; Public Meeting

AGENCY: National Marine Fisheries Service (NMFS), National Oceanic and Atmospheric Administration (NOAA), Commerce.

ACTION: Notice of public meeting.

SUMMARY: The Western Pacific Fishery Management Council’s (Council) Precious Corals Plan Team (PCPT) members will hold a meeting.

DATES: The plan team meeting will be held on May 10, 2002, from 9 a.m. to 12 noon.

ADDRESSES: The meetings will be held at the Western Pacific Fishery Management Council office, 1164 Bishop St., Suite 1400, Honolulu, HI 96813.

FOR FURTHER INFORMATION CONTACT: Kitty M. Simonds, Executive Director; telephone: (808) 522-8220.

SUPPLEMENTARY INFORMATION: The PCPT will discuss and may make recommendations to the Council on the following agenda items:

1. Review of the 112th Council Meeting

2. Status of the Industry

3. Status of the Exploratory Area Framework Adjustment

4. Current and future research on precious corals

A. Results of 2001 Pisces V surveys of the Makapuu Bed, Cross Seamount and Keahole Point

B. Results of the 2001 Pisces IV surveys of the Maui Black Coral Bed

(i) Invasion by the alien species, Carijoa riisei

(ii) Need to re-instate the 48 inch size limit

5. Impact of gold coral harvest on monk seals in the main Hawaiian islands

6. Reserve operations plan and sanctuary designation process

7. Proposed national ban on all coral harvest, and

8. Other business as required.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, (808) 522-8220 (voice) or (808) 522-8226 (fax), at least 5 days prior to meeting date.

Dated: April 23, 2002.
Bruce Morehead,
Acting Director, Office of Sustainable Fisheries, National Marine Fisheries Service.

[FR Doc. 02-10360 Filed 4-25-02; 8:45 am]

BILLING CODE 3510-22-S